FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the notices are set forth in paragraph 7 of the Act (12 U.S.C. 1817(j)(7)).

The applications listed below, as well as other related filings required by the Board, if any, are available for immediate inspection at the Federal Reserve Bank indicated. The applications will also be available for inspection at the offices of the Board of Governors. Interested persons may express their views in writing on the standards enumerated in paragraph 7 of the Act.

Comments regarding each of these applications must be received at the Federal Reserve Bank indicated or the offices of the Board of Governors, Ann E. Misback, Secretary of the Board, 20th and Constitution Avenue NW, Washington, DC 20551-0001, not later than November 7, 2019.

A. Federal Reserve Bank of Dallas (Robert L. Triplett III, Senior Vice President) 2200 North Pearl Street, Dallas, Texas 75201-2272:

1. Ferne S. Frosch, Huntsville, Texas; to retain voting shares of First National Bancshares of Huntsville, Inc. and thereby indirectly retain voting shares of First National Bank of Huntsville, both of Huntsville, Texas. In addition, The Wilbourne T. Robinson Family Trust No. 1, Huntsville, Texas, Ferne S. Frosch, Huntsville, Texas, Frances R. Snipes, Houston, Texas, and Florine R. Klussmann, Katy, Texas, as co-trustees; The Wilbourne T. Robinson Family Trust No. 2, Ferne S. Frosch, Frances R. Snipes, and Florine R. Klussmann, as co-trustees; The J. Philip Gibbs Trust No. 2, Huntsville, Texas, Ferne S. Frosch, trustee; Wayne B. Frosch; Walter M. Woodward, Jr.; and Clyde Michael Williams, all of Huntsville, Texas; Janet Smyth and Mary K. Basquin, both of New York, New York; Virginia S. Low, London, N1; Elizabeth H. Hawley, Dallas, Texas; and a minor child; to be approved as members acting in concert with the Smyth Gibbs Aker Group to retain voting shares of First National Bancshares of Huntsville, Inc. and thereby retain voting shares of First National Bank of Huntsville.

Board of Governors of the Federal Reserve System, October 23, 2019.
Yao-Chin Chao,
Assistant Secretary of the Board.

[FR Doc. 2019-23531 Filed 10-28-19; 8:45 am]

BILLING CODE 6210-01-P